DEPARTMENT OF TRANSPORTATION

Office of the Secretary

Notice of Applications for Certificates of Public Convenience and Necessity and Foreign Air Carrier Permits Filed Under Subpart B (Formerly Subpart Q) During the Week Ending January 24, 2003

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-14320.

Date Filed: January 21, 2003.

Due Date for Answers, Conforming Applications, or Motion to Modify Scope: February 11, 2003.

Description: Application of Murray Air, Inc., pursuant to 49 U.S.C. Section 41102 and Subpart B, requesting a certificate of public convenience and necessity authorizing it to conduct foreign all-cargo air transportation on a charter basis.

Docket Number: OST-2003-14321.

Date Filed: January 21, 2003.

Due Date for Answers, Conforming Applications, or Motion to Modify Scope: February 11, 2003.

Description: Application of Murray Air, Inc., pursuant to 49 U.S.C. Section 41102 and Subpart B, requesting a certificate of public convenience and necessity authorizing it to conduct interstate all-cargo air transportation on a charter basis.

Docket Number: OST-2003-14337.

Date Filed: January 22, 2003.

Due Date for Answers, Conforming Applications, or Motion to Modify Scope: February 12, 2003.

Description: Application of Delta Air Transport N.V. S.A. d/b/a SN Brussels Airlines, pursuant to 49 U.S.C. Section 41302 and Subpart B, requesting an initial foreign air carrier permit to provide scheduled foreign air transportation of persons, property, and mail between a point or points behind Belgium, via Belgium and intermediate points, to a point or points in the United States and beyond.

Dorothy Y. Beard,
Chief, Docket Operations & Media Management, Federal Register Liaison.

[FR Doc. 03-2528 Filed 2-3-03; 8:45 am]

BILLING CODE 4910-62-P